DEPARTMENT OF DEFENSE

Office of the Secretary

Renewal of Department of Defense Federal Advisory Committees

AGENCY: DoD.

ACTION: Renewal of Federal Advisory Committee.

SUMMARY: Under the provisions of 10 U.S.C. 2113a, as amended, the Federal Advisory Committee Act of 1972 (5 U.S.C. Appendix, as amended), the Government in the Sunshine Act of 1976 (5 U.S.C. 552b) (“the Sunshine Act”), and 41 CFR 102-3.50(a), the Department of Defense (DoD) gives notice that it is renewing the charter for the Board of Regents, Uniformed Services University of the Health Sciences (“the Board”).

The Board is a non-discretionary Federal advisory committee that shall assist the Secretary of Defense in an advisory capacity in carrying out the Secretary's responsibility to conduct the business of the Uniformed Services University of the Health Sciences (“the University”).

FOR FURTHER INFORMATION CONTACT: Jim Freeman, Advisory Committee Management Officer for the Department of Defense, 703-692-5952.

SUPPLEMENTARY INFORMATION: The Board shall provide advice and recommendations on academic and administrative matters critical to the full accreditation and successful operation of the University.

The Board shall report to the Secretary of Defense through the Under Secretary of Defense for Personnel and Readiness (USD(P&R)). The USD(P&R) may act upon the Board's advice and recommendations.

The Department of Defense (DoD), through the University, shall provide support, as deemed necessary, for the Board's performance, and shall ensure compliance with the requirement of FACA, the Sunshine Act, governing Federal statutes and regulations, and established policies and procedures.

Additional information and assistance, as required and approved by the Department, may be obtained from other DoD components with contracting authority and support contractors, including DoD Federally Funded Research and Development Centers for studies and analysis support.

The Board, pursuant to 10 U.S.C. 2113a, shall be composed of no more than 15 members, appointed as specified below:

a. Nine persons outstanding in the field of health care, higher education administration, or public policy shall be appointed from civilian life by the Secretary of Defense;

b. The Secretary of Defense, or his designee, who shall be an ex officio member;

c. The surgeons general of the Uniformed Services, who shall be ex officio members; and

d. The president of the University, who shall be a non-voting ex officio member.

The terms of office for each member of the Board (other than ex officio members), shall be six years except that:

a. Any member appointed to fill a vacancy occurring before the expiration of the term for which his predecessor was appointed shall be appointed for the remainder of such term; and

b. Any member whose term of office has expired shall continue to serve until his successor is appointed.

One of the appointed members of the Board shall be designated as Chairman by the Secretary of Defense and shall be presiding officer of the Board.

Board members that are not ex officio members shall be appointed by the Secretary of Defense and their appointments will be renewed on an annual basis according to DoD policies and procedures. Members of the Board who are not full-time or permanent part-time Federal employees shall be appointed to serve as experts and consultants under the authority of 5 U.S.C. § 3109 and serve as special government employee (SGE) members. Pursuant to 10 U.S.C. 2113a(c) and (e), these SGEs shall serve a term of service of six years and shall be entitled to receive compensation at a rate fixed by the Secretary of Defense, in addition to travel expenses and per diem while serving away from their place of residence.

Each member of the Board is appointed to provide advice on behalf of the Government on the basis of his or her best judgment without representing any particular point of view and in a manner that is free from conflict of interest.

The Department, when necessary, and consistent with the Board's mission and DoD policies and procedures, may establish subcommittees, task groups, and working groups to support the Board. Establishment of subcommittees will be based upon a written determination, to include terms of reference, by the Secretary of Defense, the Deputy Secretary of Defense or the USD(P&R). Such subcommittees shall not work independently of the Board, and shall report all their recommendations and advice solely to the Board for full deliberation and discussion. Subcommittees have no authority to make decisions and recommendations, verbally or in writing, on behalf of the Board; nor can any subcommittee or its members update or report directly to the DoD or any Federal officers or employees.

The Secretary of Defense shall appoint subcommittee members even if the member in question is already a Board member. Subcommittee members, with the approval of the Secretary of Defense, may serve a term of service on the subcommittee of one-to-four years; however, no member, unless authorized by the Secretary of Defense, may serve more than two consecutive terms of service.

Subcommittee members, if not full-time or part-time Government employees, shall be appointed to serve as experts and consultants under the authority of 5 U.S.C. § 3109, and shall serve as a SGE member, whose appointments must be renewed by the Secretary of Defense on an annual basis. With the exception of travel and per diem for official travel related to the Board or its subcommittees, subcommittee members shall serve without compensation.

Each subcommittee member is appointed to provide advice on behalf of the Government on the basis of his or her best judgment without representing any particular point of view and in a manner that is free from conflict of interest.

All subcommittees operate under the provisions of FACA, the Sunshine Act, governing Federal statutes and regulations, and governing DoD policies and procedures. The Board shall meet at the call of the Board's Designated Federal Officer (DFO), in consultation with Board's Chairperson. The estimated number of meetings by the Board is four per year.

In addition, the Board's DFO is required to be in attendance at all meetings of the Board and its subcommittees for the entire duration of each and every meeting. However, in the absence of the Board's DFO, a properly approved Alternate DFO, duly appointed to the Board according to DoD policies and procedures, shall attend the entire duration of meetings of the Board or subcommittees.

The DFO, or the Alternate DFO, shall call all of the Board and its subcommittees; prepare and approve all meeting agendas; and adjourn any meeting, when the DFO, or the Alternate DFO, determines adjournment to be in the public interest or required by governing regulations or DoD policies and procedures; and chair meetings when directed to do so by the USD(P&R). Pursuant to 41 CFR 102-3.105(j) and 102-3.140, the public or interested organizations may submit written statements to Board of Regents, Uniformed Services University of the Health Sciences membership about the Board's mission and functions. Written statements may be submitted at any time or in response to the stated agenda of planned meeting of Board of Regents, Uniformed Services University of the Health Sciences.

All written statements shall be submitted to the Designated Federal Officer for the Board of Regents, Uniformed Services University of the Health Sciences, and this individual will ensure that the written statements are provided to the membership for their consideration. Contact information for the Board of Regents, Uniformed Services University of the Health Sciences' DFO can be obtained from the GSA's FACA Database—https://www.fido.gov/facadatabase/public.asp.

The DFO, pursuant to 41 CFR 102-3.150, will announce planned meetings of the Board of Regents, Uniformed Services University of the Health Sciences. The DFO, at that time, may provide additional guidance on the submission of written statements that are in response to the stated agenda for the planned meeting in question.

Dated: February 12, 2013.
Aaron Siegel,
Alternate OSD Federal Register Liaison Officer, Department of Defense.

[FR Doc. 2013-03586 Filed 2-14-13; 8:45 am]

BILLING CODE 5001-06-P